DEPARTMENT OF COMMERCE

International Trade Administration

[A-489-829]

Steel Concrete Reinforcing Bar From the Republic of Turkey: Final Results of Antidumping Duty Administrative Review and Final Determination of No-Shipments; 2019-2020; Correction

AGENCY: Enforcement and Compliance, International Trade Administration, Department of Commerce.

SUMMARY: The Department of Commerce (Commerce) published a notice in the Federal Register on February 8, 2022, in which Commerce announced the final results of the 2019-2020 administrative review of the antidumping duty (AD) order on steel concrete reinforcing bar (rebar) from the Republic of Turkey (Turkey). This notice corrects the name of the respondent for which we tied the rates for non-selected companies to in that determination.

DATES: Applicable February 24, 2022.

FOR FURTHER INFORMATION CONTACT: Robert Copyak or Jose Rivera, AD/CVD Operations, Office VII, Enforcement and Compliance, International Trade Administration, U.S. Department of Commerce, 1401 Constitution Avenue NW, Washington, DC 20230; telephone: (202) 482-3642 or (202) 482-0842, respectively.

SUPPLEMENTARY INFORMATION:

Correction

In the Federal Register of February 8, 2022, in the FR Doc 2022-02638 on page 7119, in the second column, correct the last sentence in the section “Rates for Non-Selected Companies:” “Accordingly, Commerce is assigning Colakoglu's rate of 1.02 percent to companies not selected for individual examination.” The corrected sentence should read: “Accordingly, Commerce is assigning Kaptan Demir's rate of 1.02 percent to companies not selected for individual examination.”

Background

On August 6, 2021, Commerce published in the Federal Register the notice of the final results of the 2019-2020 administrative review.¹ We inadvertently misstated in the “Rates for Non-Selected Companies” section of the notice that “Commerce is assigning Colakoglu's rate of 1.02 percent to companies not selected for individual examination.” The correct rate for non-selected companies is the rate calculated for Kaptan Demir Celik Energji Tersane ve Ulasim Sanayi A.S. (Kaptan Demir) of 1.02 percent. This notice serves as a notification of this correction to the Federal Register notice published on February 8, 2022.

¹ See Steel Concrete Reinforcing Bar from the Republic of Turkey: Final Results of Antidumping Duty Administrative Review and Final Determination of No Shipments; 2019-2020, 87 FR 7118 (February 8, 2022).

Notification to Interested Parties

This notice is issued and published in accordance with sections 751(a) and 777(i) of the Act.

Dated: February 17, 2022.
Lisa W. Wang,
Assistant Secretary for Enforcement and Compliance.

[FR Doc. 2022-03922 Filed 2-23-22; 8:45 am]

BILLING CODE 3510-DS-P